DEPARTMENT OF THE TREASURY

Submission for OMB Review; Comment Request

February 24, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 3, 2003 to be assured of consideration.

Internal Revenue Service (IRS)

OMB Number: 1545-0973.

Form Number: IRS Form 8569.

Type of Review: Extension.

Title: Geographic Availability Statement.

Description: The data collected from this form is used by the executive panels responsible for screening internal and external applicants for the SES Candidate Development Program, and other executive positions.

Respondents: Individuals or households, Federal Government.

Estimated Number of Respondents: 500.

Estimated Burden Hours Per Respondent: 10 minutes.

Frequency of Response: Annually.

Estimated Total Reporting Burden: 84 hours.

OMB Number: 1545-1128.

Regulation Project Number: CO-69-87 Final, CO-68-87 Final and CO-18-90 Final.

Type of Review: Extension.

Title: CO-69-87 and CO-68-87 Final: Final Regulations under Sections 382 and 383 of the Internal Revenue Code of 1986; Pre-change Attributes; and

CO-18-90 Final: Final Regulations under Section 382 of the Internal Revenue Code of 1986; Limitations on Corporate Net Operating Loss Carryforwards.

Description: (CO-69-87 and CO-68-87) These regulations require reporting by a corporation after it undergoes an “ownership change” under sections 382 and 383. Corporations required to report under these regulations include those with capital loss carryovers and excess credits. (CO-18-90) These regulations provide rules for the treatment of options under Internal Revenue Code (IRC) section 382 for purposes of determining whether a corporation undergoes an ownership change. The regulation allows for certain elections for corporations whose stock is subject to options.

Respondents: Business or other for-profit.

Estimated Number of Respondents/Recordkeepers: 75,150.

Estimated Burden Hours Per Respondent/Recordkeeper: 2 hours, 56 minutes.

Frequency of Response: Annually.

Estimated Total Reporting/Recordkeeping Burden: 220,575 hours.

OMB Number: 1545-1617.

Regulation Project Number: REG-124069-02 NPRM, Temporary and Final; and REG-118966-97 Final.

Type of Review: Extension.

Title: REG-124069-02 NPRM, Temporary and Final Regulations: Section 6038—Returns Required with Respect to Controlled Foreign Partnerships;

REG-118966-97 Final: Information Reporting with Respect to Certain Foreign Partnership and Certain Foreign Corporations.

Description: (REG-124069-02) Treasury Regulation § 1.6038-3 requires certain United States persons who own interests in controlled foreign partnerships to annually report information to the IRS on Form 8865. This regulation amends the reporting rules under Treasury Regulation section § 1.6038-e to provide that a U.S. person must follow the filing requirements that are specified in the instructions for Form 8865 when the U.S. person must file Form 8865 and the foreign partnership completes and files Form 1065 or Form 1065-B.

(REG-118966-97) Section 6038 requires certain U.S. persons who own interest in controlled foreign partnerships or certain foreign corporations to annually report information to the IRS. This regulation provides reporting rules to identify foreign partnerships and foreign corporations which are controlled by U.S. persons.

Respondents: Business or other for-profit, Individual or households.

Estimated Number of Respondents/Recordkeepers: 500.

Estimated Burden Hours Per Respondent/Recordkeeper: 30 minutes.

Frequency of Response: Annually.

Estimated Total Reporting/Recordkeeping Burden: 250 hours.

OMB Number: 1545-1806.

Form Number: IRS Form 8883.

Type of Review: Revision.

Title: Asset Allocation Statement Under 338.

Description: Form 8883 is used to report information regarding transactions involving the deemed sale of corporate assets under section 338.

Respondents: Business or other for-profit.

Estimated Number of Respondents/Recordkeepers: 201.

Estimated Burden Hours Per Respondent/Recordkeeper:

Recordkeeping—16 hr., 44 min.

Learning about the law or the form—3 hr., 40 min.

Preparing and sending the form to the IRS—4 hr., 6 min.

Frequency of Response: On occasion.

Estimated Total Reporting/Recordkeeping Burden: 4,929 hours.

OMB Number: 1545-1808.

Form Number: IRS Form 8887.

Type of Review: Extension.

Title: Health Insurance Credit Eligibility Certificate.

Description: Form 8887 is used to notify a TAA (trade adjustment assistance), alternative TAA, or PBGC (Pension Benefit Guaranty Corporation) recipient that they may qualify for the health insurance credit on Form 8885.

Respondents: State, Local or Tribal Government, Individual or households.

Estimated Number of Respondents/Recordkeepers: 300,000.

Estimated Burden Hours Per Respondent/Recordkeeper:

Recordkeeping—6 min.

Learning about the law or the form—2 min.

Preparing the form—5 min.

Copying, assembling, and sending the form to the IRS—10 min.

Frequency of Response: Annually.

Estimated Total Reporting/Recordkeeping Burden: 123,000 hours.

Clearance Officer: Glenn Kirkland (202) 622-3428, Internal Revenue Service, Room 6411-03, 1111 Constitution Avenue, NW, Washington, DC 20224.

OMB Reviewer: Joseph F. Lackey, Jr. (202) 395-7316, Office of Management and Budget, Room 10235, New Executive Office Building, Washington, DC 20503.

Lois K. Holland,
Treasury PRA Clearance Officer.

[FR Doc. 03-5019 Filed 3-3-03; 8:45 am]

BILLING CODE 4830-01-P